DEPARTMENT OF COMMERCE

Census Bureau

Submission for OMB Review; Comment Request

DOC has submitted to the Office of Management and Budget (OMB) for clearance the following proposal for collection of information under the provisions of the Paperwork Reduction Act (44 U.S.C. chapter 35).

Agency: U.S. Census Bureau.

Title: 2003 Annual Survey of Manufactures.

Form Number(s): MA-1000(L), MA-10000(S).

Agency Approval Number: 0607-0449.

Type of Request: Revision of a currently approved collection.

Burden: 187,000 hours.

Number of Respondents: 55,000.

Avg Hours Per Response: 3.4 hours.

Needs and Uses: The Census Bureau requests a reinstatement with change, of a previously approved collection for the Annual Survey of Manufactures (ASM). The Census Bureau has conducted the ASM since 1949 under the mandatory requirements of Title 13, United States Code to provide key measures of manufacturing activity during intercensal periods. In census years ending in “2” and “7,” we mail and collect the ASM as part of the Economic Census covering the Manufacturing Sector. The content of the questionnaires for the 2003 ASM is modified from the 2001 ASM report form. We plan to collect data on leased employees, their payroll including fringe benefits and hours worked. These data were collected for the first time as part of the 2002 Economic Census.

The ASM furnishes up-to-date estimates of employment and payrolls, hours and wages of production workers, value added by manufacture, cost of materials, value of shipments by class of product, inventories, and expenditures for new and used plant and equipment. The survey provides data for most of these items for each of the 5-digit and selected 6-digit industries as defined in the North American Industry Classification System (NAICS). We also provide geographic data by state at a more aggregated industry level.

This survey is an integral part of the federal government's statistical program. Its results provide a factual background for decision making by the executive and legislative branches of the federal government. Federal agencies use the annual survey's input and output data as benchmarks for their statistical programs, including the Federal Reserve Board's Index of Industrial Production and the Bureau of Economic Analysis' estimates of the gross domestic product (GDP). The data also provide the Department of Energy with primary information on the use of energy by the manufacturing sector to produce manufactured products. These data also are used as benchmark data for the Manufacturing Energy Consumption Survey which is conducted for the Department of Energy by the Census Bureau. The Department of Commerce uses the exports of manufactured products data to measure the importance of exports to the manufacturing economy of each state. Within the Census Bureau, the ASM data are used to benchmark and reconcile monthly and quarterly data on manufacturing production and inventories. The survey also provides valuable information to private companies, research organizations, and trade associations. Industry makes extensive use of the annual figures on product class shipments at the U.S. level in its market analysis, product planning, and investment planning. State development/planning agencies rely on the survey as a major source of comprehensive economic data for policymaking, planning, and administration.

Affected Public: Business or other for-profit.

Frequency: Annually.

Respondent's Obligation: Mandatory.

Legal Authority: Title 13 U.S.C., Sections 182, 224 & 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 8, 2003.
Madeleine Clayton,
Management Analyst, Office of the Chief Information Officer.

[FR Doc. 03-20613 Filed 8-12-03; 8:45 am]

BILLING CODE 3510-07-P